ENVIRONMENTAL PROTECTION AGENCY

[OECA-2004-0033; FRL-7946-9]

Agency Information Collection Activities; Submission for OMB Review and Approval; Comment Request; NESHAP for Metal Coil Surface Coating Plants (Renewal), ICR Number 1957.04, OMB Number 2060-0487

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on August 31, 2005. Under OMB regulations, the Agency may continue to conduct or sponsor the collection of information while this submission is pending at OMB. This ICR describes the nature of the information collection and its estimated burden and cost.

DATES: Additional comments may be submitted on or before August 31, 2005.

ADDRESSES: Submit your comments, referencing docket ID number OECA-2004-0033, to (1) EPA online using EDOCKET (our preferred method), by email to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; email address: williams.learia@epa.gov.

SUPPLEMENTARY INFORMATION: EPA has submitted the following ICR to OMB for review and approval according to the procedures prescribed in 5 CFR 1320.12. On December 1, 2004 (69 FR 69909), EPA sought comments on this ICR pursuant to 5 CFR 1320.8(d). EPA received no comments.

EPA has established a public docket for this ICR under Docket ID Number OECA-2004-0033, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, or access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NESHAP for Metal Coil Surface Coating Plants (Renewal).

Abstract: The National Emission Standards for Hazardous Air Pollutants (NESHAP), for Metal Coil Surface Coating Plants were proposed on July 18, 2000 (65 FR 44616), and promulgated on June 10, 2002 (67 FR 39812) and amended on March 17, 2003 (68 FR 12592). These standards apply to each facility that is a major source of hazardous air pollutant (HAP), at which a coil coating line is operated. This coating line is used to coat metal coil of thicknesses both less than and greater than or equal to 0.15 millimeters (0.006 inches) thick.

Owners or operators must submit notification reports upon construction or reconstruction of any metal coil surface coating plant. Semiannual reports for periods of operation during which the emission limitation is exceeded (or reports certifying that no exceedances have occurred) also are required. Records and reports will be required to be retained for a total of five years.

All reports are sent to the delegated state or local authority. In the event that there is no such delegated authority, the reports are sent directly to the EPA regional office.

An agency may not conduct or sponsor, and a person is not required to respond to, a collection of information unless it displays a currently valid OMB Control Number. The OMB Control Numbers for EPA's regulations are listed in 40 CFR part 9 and 48 CFR chapter 15, and are identified on the form and/or instrument, if applicable.

Burden Statement: The annual public reporting and recordkeeping burden for this collection of information is estimated to average 119 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of metal coil surface coating plants.

Estimated Number of Respondents: 89.

Frequency of Response: Initially, annually, semiannually, weekly, and occasionally.

Estimated Total Annual Hour Burden: 19,901 hours.

Estimated Total Annual Costs: $1,592,013, which includes $0 annualized capital/startup cost and $3,648 O&M costs and $1,588,365 in Respondent Labor costs.

Changes in the Estimates: There is a decrease of 5,147 hours as compared to the active ICR. The reason for this decrease in labor hours is due to the fact that there are no new or reconstructed sources in this renewal that would require reporting requirements associated with this standard.

There is also a significant reduction in the cost burden due to a reduction in the capital/startup costs because monitors do not have to be purchased. However, the cost to operate and maintain (O&M) those monitors continues from year to year.

Dated: July 18, 2005.
Oscar Morales,
Director, Collection Strategies Division.

[FR Doc. 05-15146 Filed 7-29-05; 8:45 am]

BILLING CODE 6560-50-P